DEPARTMENT OF COMMERCE

National Oceanic and Atmospheric Administration

[I.D. 081298B]

Endangered and Threatened Species; Withdrawal of Permit

AGENCY: National Marine Fisheries Service (NMFS), National Oceanic and Atmospheric Administration (NOAA), Commerce.

ACTION: Withdrawal of a scientific research permit application (1169).

SUMMARY: NMFS has received notice from the United States Forest Service, Mt. Hood National Forest in Sandy, OR (MHNF), to withdraw its application for a permit for take of an Endangered Species Act (ESA) - listed species associated with scientific research.

ADDRESSES: Protected Resources Division (PRD), F/NWO3, 525 NE Oregon Street, Suite 500, Portland, OR 97232-2737 (503-230-5400).

FOR FURTHER INFORMATION CONTACT: Leslie Schaeffer, Portland, OR (503-230-5424, fax: 503-230-5435, e-mail: leslie.schaeffer@noaa.gov).

SUPPLEMENTARY INFORMATION: The following ESA-listed species and evolutionarily significant unit (ESU) is covered in this notice:

Steelhead (Oncorhynchus mykiss): threatened lower Columbia River (LCR).

Permit Application Withdrawn

Notice was published on August 27, 1998 (63 FR 45799) that MHNF applied for a scientific research permit under section 10(a)(1)(A) of the ESA. The permit was requested for take of adult and juvenile, threatened, LCR steelhead associated with four routine fish distribution and monitoring research studies. At the time the permit was requested, protective regulations for threatened LCR steelhead under section 4(d) of the ESA had not been promulgated by NMFS. After the protective regulations for threatened LCR steelhead were established (see 65 FR 42422, July 10, 2000), NMFS determined that MHNF take of LCR steelhead associated with the proposed scientific research in the MHNF would best be handled under Oregon Department of Fish and Wildlife’s scientific research take limit under their 4(d) rule for that species. As such, on August 27, 2001, MHNF notified NMFS to withdraw its permit application from consideration.

Dated: January, 15, 2002.
Phil Williams,
Acting Chief, Endangered Species Division, Office of Protected Resources, National Marine Fisheries Service.

[FR Doc. 02-1531 Filed 1-18-02; 8:45 am]

BILLING CODE 3510-22-S